INTERNATIONAL TRADE COMMISSION

[Investigation Nos. 701-TA-501 and 731-TA-1226 (Final)]

Chlorinated Isocyanurates From China and Japan

Determinations

On the basis of the record ¹ developed in the subject investigations, the United States International Trade Commission (“Commission”) determines, pursuant to section 705(b) of the Tariff Act of 1930 (19 U.S.C. 1671d(b)) (“the Act”), that an industry in the United States is threatened with material injury by reason of imports of chlorinated isocyanurates from China, provided for in subheadings 2933.69.6015, 2933.69.6021, 2933.69.6050, 3808.50.4000, 3808.94.5000, and 3808.99.9500 of the Harmonized Tariff Schedule of the United States, that have been found by the Department of Commerce (“Commerce”) to be subsidized by the government of China.²

¹ The record is defined in sec. 207.2(f) of the Commission's Rules of Practice and Procedure (19 CFR 207.2(f)).

² The Commission additionally determined that it would not have found material injury by reason of subject imports of chlorinated isocyanurates from China but for the suspension of liquidation of entries on the subject imports.

The Commission further determines, pursuant to section 735(b) of the Act (19 U.S.C. 1673d(b)), that an industry in the United States is not materially injured or threatened with material injury, and the establishment of an industry in the United States is not materially retarded, by reason of imports of chlorinated isocyanurates from Japan that have been found by Commerce to be sold in the United States at less than fair value (“LTFV”).³

³ Vice Chairman Dean A. Pinkert determines that an industry in the United States is materially injured by reason of imports from China and Japan of chlorinated isocyanurates.

Background

The Commission instituted these investigations effective August 29, 2013, following receipt of a petition filed with the Commission and Commerce by Clearon Corp., South Charleston, WV; and Occidental Chemical Corp., Dallas, TX. The final phase of the investigations was scheduled by the Commission following notification of preliminary determinations by Commerce that imports of chlorinated isocyanurates from China were subsidized within the meaning of section 703(b) of the Act (19 U.S.C. 1671b(b)) and that imports of chlorinated isocyanurates from Japan were dumped within the meaning of 733(b) of the Act (19 U.S.C. 1673b(b)). Notice of the scheduling of the final phase of the Commission's investigations and of a public hearing to be held in connection therewith was given by posting copies of the notice in the Office of the Secretary, U.S. International Trade Commission, Washington, DC, and by publishing the notice in the Federal Register on May 19, 2014 (79 FR 28771). The hearing was held in Washington, DC, on September 9, 2014, and all persons who requested the opportunity were permitted to appear in person or by counsel.

The Commission completed and filed its determinations in these investigations on November 3, 2014. The views of the Commission are contained in USITC Publication 4494 (November 2014), entitled Chlorinated Isocyanurates from China and Japan (Investigation Nos. 701-TA-501 and 731-TA-1226 (Final)).

By order of the Commission.
Dated: November 3, 2014.
Lisa R. Barton,
Secretary to the Commission.

[FR Doc. 2014-26472 Filed 11-6-14; 8:45 am]

BILLING CODE 7020-02-P